NATIONAL SCIENCE FOUNDATION

Proposal Review Panel for Materials Research; Notice of Meeting

In accordance with the Federal Advisory Committee Act (Pub., L. 92-463, as amended), the National Science Foundation announces the following meeting:

Name: Proposal Review Panel for Materials Research—Site visit review of the National High Magnetic Field Laboratory (NHMFL) at Florida State University, Tallahassee, FL (#1203).

Dates & Times: August 29, 2016; 6:00 p.m.-9:00 p.m.; August 30, 2016; 7:30 a.m.-8:30 p.m.; August 31, 2016; 7:30 a.m.-2:30 p.m.

Place: Florida State University, Tallahassee, FL.

Type of Meeting: Part-Open.

Contact Person: Dr. Leonard Spinu, Program Director, Division of Materials Research, Room 1065, National Science Foundation, 4201 Wilson Boulevard, Arlington, VA 22230, Telephone (703) 292-2665.

Purpose of Meeting: Site visit to provide advice and recommendations concerning the support for the renewal proposal of the NHMFL.

Agenda

Monday, August 29, 2016

6:00 p.m.-9:00 p.m.: Closed—Briefing of panel

Tuesday, August 30, 2016

7:30 a.m.-10:00 a.m.: Open—Review of the NHMFL

10:20 a.m.-10:50 a.m.: Closed—Executive Session

10:50 a.m.-4:20 p.m.: Open—Review of NHMFL

4:20 p.m.-4:50 p.m.: Closed—Executive Session

4:50 p.m.-7:10 p.m.: Open—Review of NHMFL

7:10 p.m.-8:10 p.m.: Closed—Dinner—Executive Session

Wednesday, August 31, 2016

7:30 a.m.-8:10 a.m.: Open—Review of the NHMFL

8:10 a.m.-2:30 p.m.: Closed—Executive Session, Draft and Review Report

Reason for Closing: The work being reviewed include information of a proprietary or confidential nature, including technical information; financial data, such as salaries and personal information concerning individuals associated with the proposals. These matters are exempt under 5 U.S.C. 552b(c), (4) and (6) of the Government in the Sunshine Act.

Dated: August 1, 2016.
Crystal Robinson,
Committee Management Officer.

[FR Doc. 2016-18543 Filed 8-4-16; 8:45 am]

BILLING CODE 7555-01-P